DEPARTMENT OF LABOR

Employment and Training Administration

[TA-W-80,278]

Wells Fargo Bank, N.A. Subsidiary of Wells Fargo & Company Home Mortgage Division Including On-Site Leased Workers From Aerotek, Inc., Employee Relations Associates, Manpower, Spherion, and on Call Staffing Solutions, Costa Mesa, CA; Amended Certification Regarding Eligibility To Apply for Worker Adjustment Assistance

In accordance with Section 223 of the Trade Act of 1974, as amended (“Act”), 19 U.S.C. 2273, the Department of Labor issued a Certification of Eligibility to Apply for Worker Adjustment Assistance on December 1, 2011, applicable to workers of Wells Fargo Bank, N.A., Subsidiary of Wells Fargo & Company, Home Mortgage Division, including on-site leased workers from Aerotek, Inc., Employee Relations Associate, Manpower, and Spherion, Costa Mesa, California (subject firm). The Department's Notice of determination was published in the Federal Register on December 13, 2011 (76 FR 77558).

At the request of the State Workforce Office, the Department reviewed the certification for workers of the subject firm. The workers were engaged in activities related to the supply of mortgage underwriting services.

The subject firm reports that workers from On Call Staffing Solutions were employed on-site at the subject firm. The Department has determined that these workers were sufficiently under the control of the subject firm to be considered leased workers. Based on these findings, the Department is amending this certification to include workers from On Call Staffing Solutions working on-site at the subject firm.

The amended notice applicable to TA-W-80,278 is hereby issued as follows:

All workers of Wells Fargo Bank, N.A., Subsidiary of Wells Fargo & Company, Home Mortgage Division, including on-site leased workers from Aerotek, Inc., Employee Relations Associate, Manpower, Spherion, and On Call Staffing Solutions, Costa Mesa, California, who became totally or partially separated from employment on or after July 6, 2010 through December 1, 2013, and all workers in the group threatened with total or partial separation from employment on December 1, 2011 through December 1, 2013, are eligible to apply for adjustment assistance under Chapter 2 of Title II of the Trade Act of 1974, as amended.

Signed in Washington, DC, this 30th day of April 2012.
Del Min Amy Chen,
Certifying Officer, Office of Trade Adjustment Assistance.

[FR Doc. 2012-11904 Filed 5-16-12; 8:45 am]

BILLING CODE 4510-FN-P